DEPARTMENT OF THE INTERIOR

Office of the Assistant Secretary for Water and Science

[113R0680R1, RR.17549897.1000000.01, RC0ZCUPCA0]

UTAH RECLAMATION MITIGATION AND CONSERVATION COMMISSION

Notice of Availability of the Draft Environmental Impact Statement for the Provo River Delta Restoration Project

AGENCY: Central Utah Project Completion Act, Interior; Utah Reclamation Mitigation and Conservation Commission.

ACTION: Notice.

SUMMARY: The Department of the Interior, Utah Reclamation Mitigation and Conservation Commission, and the Central Utah Water Conservancy District, as Joint Lead Agencies, have prepared and made available to the public a Draft Environmental Impact Statement (DEIS) that discloses the effects of the Provo River Delta Restoration Project (Project) which is a recovery action within the approved June Sucker Recovery Plan of 1999.

DATES: Submit written comments on the DEIS on or before April 29, 2014. One or more public meetings will be held in association with the release of the DEIS allowing for public comment. Date(s), time(s), and location(s) of the meeting(s) will be mailed to interested parties and provided in the local media.

ADDRESSES: Send written comments on the DEIS and requests for copies to Mr. Richard Mingo, Utah Reclamation Mitigation and Conservation Commission, 230 South 500 East Suite 230, Salt Lake City, UT 84102; or by email to rmingo@usbr.gov. The DEIS is accessible at the following Web sites: www.cupcao.gov, www.provoriverdelta.us, www.mitigationcommission.gov, and www.cuwcd.com. See the SUPPLEMENTARY INFORMATION section for locations where copies of the DEIS are available for public review and inspection.

FOR FURTHER INFORMATION CONTACT: Mr. Richard Mingo, 801-524-3146; or by email to rmingo@usbr.gov.

SUPPLEMENTARY INFORMATION:

Background

The Department of the Interior's Record of Decision for the Diamond Fork System Final Supplement to the Diamond Fork Power System Final Environmental Impact Statement, signed September 29, 1999, commits the Joint Lead Agencies to “. . . participate in the development of a Recovery Implementation Program for June sucker.” Moreover, “. . . [a]ny future development of the Bonneville Unit of CUP [Central Utah Project] will be contingent on the RIP [June Sucker Recovery Implementation Program (JSRIP)] making `sufficient progress' towards recovery of June sucker.” The Utah Reclamation Mitigation and Conservation Commission signed its own Record of Decision for the Diamond Fork System Project on November 19, 1999. The JSRIP was established in 2002, and the Joint Lead Agencies are participants. The goals of the JSRIP are to recover June sucker so that it no longer requires protection under the Endangered Species Act and allow continued operation of existing water facilities and future development of water resources for human uses within the Utah Lake Basin in Utah.

The June sucker exists naturally only in Utah Lake and spawns naturally only in the lower Provo River, a Utah Lake tributary. Monitoring indicates young June sucker hatching in the lower Provo River do not survive to the adult stage. Monitoring shows that first-year fish do not survive due to habitat inadequacies in the lower Provo River and its interface with Utah Lake related to flow, food supply, and shelter. A compounding factor is likely predation by nonnative fishes. Dredging and channelization for flood control has eliminated the shallow, warm, complex wetland habitat at the mouth of the Provo River where it entered Utah Lake.

Proposed Federal Action

The Project would restore the lower Provo River to a more natural deltaic ecosystem. The delta and associated habitat would provide needed habitat for the recovery of the endangered June sucker. These improvements would be accomplished through the implementation of one or any combination of the action alternatives or options analyzed in the DEIS.

Purpose and Need for Action

The Project has been identified as an essential action needed to recover the endangered June sucker. It would restore functional habitat conditions in the lower Provo River and its interface with Utah Lake that are needed for spawning, hatching, larval transport, survival, rearing and recruitment of young into the population on a self-sustaining basis.

The purposes of the Project are to:

• Implement the specific criteria of the June Sucker Recovery Plan to restore a naturally functioning Provo River delta ecosystem essential for recruitment of June sucker;

• Provide recreational improvements and opportunities associated with the Project;

• Adopt flow regime targets for the lower Provo River and provide delivery of supplemental water to the lower Provo River, including additional conserved water.

A Notice of Intent to prepare the Provo River Delta Restoration Project DEIS was published in the Federal Register on March 16, 2010 (75 FR 12562). The DEIS describes and analyzes the potential effects of three action alternatives, a no action alternative, and two options for the existing Provo River channel.

No Action Alternative

This alternative considers the consequences of taking “no action” with respect to the purpose and need of the Project. Under the No Action Alternative, the planned Project would not be implemented, but remaining actions in the June Sucker Recovery Plan and JSRIP would proceed as planned, subject to National Environmental Policy Act compliance as appropriate. Private lands would not be acquired for the Project.

Alternative A

Alternative A would maximize the available rearing and spawning habitat for June sucker. The acquisition boundary for this alternative encompasses 507.3 acres.

Alternative B—Agency Preferred Alternative

Alternative B was developed with substantial involvement from study area landowners and other stakeholders. It is the agency preferred alternative. It would reduce the amount of private land required for the Project and preserve the highest-value agricultural land, while still meeting June sucker spawning and rearing habitat improvement needs. The acquisition boundary for this alternative encompasses 310.3 acres.

Alternative C

Alternative C would exclude most of the existing peat wetlands located on the east and north sides of the Project area from restoration activities but, as a consequence, would be constructed on the higher-value agricultural lands. Alternative C would meet June sucker spawning and rearing habitat improvement needs for the Project by using lands to the south of these wetlands. The acquisition boundary for this alternative encompasses 298.3 acres.

Existing Provo River Channel Options

Two options were considered for use of the existing Provo River Channel. Either of the two options could be paired with any of the three action alternatives. Option 1 would leave the existing Provo River Channel open to Utah Lake, allowing for fluctuating water levels at various times of the year. Option 2 would maintain the existing channel at a relatively constant elevation by constructing a small dam at the downstream mouth of the channel near Utah Lake State Park. Under both options, an aeration system would be installed and operated to improve water quality and a minimum flow of 10 cubic feet per second would be provided to the existing Provo River channel which would be retained and managed for recreational and aesthetic purposes.

Public Meeting Information

The purpose of the public meeting(s) is to provide the public and other interested parties the opportunity to ask questions and provide comment to the Joint Lead Agencies. The format of the meeting(s) will be an open-house type format.

Written comments should be received no later than 60 days following publication of the Notice of Availability in the Federal Register by the Environmental Protection Agency to ensure inclusion in the administrative record. Under the National Environmental Policy Act process, written and oral comments, received by the due date, are given the same consideration.

Copies of the DEIS are available for review and inspection at:

• Department of the Interior, Central Utah Project Completion Act Office, 302 East 1860 South, Provo, Utah 84606-7317-2045.

• Utah Reclamation Mitigation and Conservation Commission, 230 South 500 East Suite 230, Salt Lake City, Utah 84102.

• Central Utah Water Conservancy District, 355 West University Parkway, Orem, Utah 84058-7303.

Libraries

• Provo City Public Library, 550 North University Avenue, Provo, Utah 84601.

• Salt Lake City Public Library, 210 East 400 South, Salt Lake City, Utah 84111.

Public Disclosure

Before including your address, phone number, email address, or other personal identifying information in your comment, you should be aware that your entire comment—including your personal identifying information—may be made publicly available at any time. While you can ask us in your comment to withhold your personal identifying information from public review, we cannot guarantee that we will be able to do so.

Dated: February 21, 2014.
Reed R. Murray,
Program Director, Central Utah Project Completion Act, Department of the Interior.
Dated: February 21, 2014.
Michael C. Weland,
Executive Director, Utah Reclamation Mitigation and Conservation Commission.

[FR Doc. 2014-04311 Filed 2-27-14; 8:45 am]

BILLING CODE 4310-MN-P